DEPARTMENT OF JUSTICE

Notice of Lodging of Consent Decree Under the Clean Air Act

Notice is hereby given that on November 30, 2010, a proposed Consent Decree (“Decree”) in United States v. Interprint, Inc., Civil Action No. 3:10-cv-30223, was lodged with the United States District Court for the District of Massachusetts.

The Decree resolves claims of the United States against Interprint, Inc. under the Clean Air Act, 42 U.S.C. 7401-7671q, for injunctive relief and recovery of civil penalties in connection with Interprint Inc.'s construction and operation of a printing facility located in Pittsfield, Massachusetts. The Decree requires Interprint to pay $80,000 in civil penalties, to institute injunctive relief in the form of production limits and restrictions while seeking plan approval under the Massachusetts State Implementation Plan, and to perform a supplemental environmental project valued at $305,000.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States v. Interprint, Inc., 3:10-cv-30223 (D. Mass.), D.J. Ref. 90-5-2-1-09528.

The Decree may be examined at U.S. EPA Region I, 5 Post Office Square, Boston, MA 02109. During the public comment period, the Decree, may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-30408 Filed 12-3-10; 8:45 am]

BILLING CODE 4410-15-P